DEPARTMENT OF HEALTH AND HUMAN SERVICES

Centers for Disease Control and Prevention

[60Day-16-0995; Docket No. CDC-2016-0071]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on “National Network of Sexually Transmitted Diseases Clinical Prevention Training Centers (NNPTC): Evaluation”. The purpose of this study is to improve sexually transmitted disease care in the United States.

DATES: Written comments must be received on or before September 26, 2016.

ADDRESSES: You may submit comments, identified by Docket No. CDC-2016-0071 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact the Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

National Network of Sexually Transmitted Diseases Clinical Prevention Training Centers (NNPTC): Evaluation—OMB No. 0920-0995, Expiration: 10/31/2016—Revision—National Center for HIV/AIDS, Viral Hepatitis, STD, and TB Prevention (NCHHSTP), Centers for Disease Control and Prevention (CDC).

Background and Brief Description

The Centers for Disease Control and Prevention (CDC), Division of HIV/AIDS Prevention requests a revision and 3-year approval of the currently approved information collection request that comprises the NNPTC Abbreviated Health Professional Application for Training (NNPTC Abbreviated HPAT). The NNPTC Abbreviated HPAT will continue to serve as the official training application form used for training activities conducted by the Sexually Transmitted Disease (STD) Prevention Training Centers' (PTCs) grantees funded by the (CDC).

The PTCs are funded by CDC/Division of STD Prevention (DSTDP) to provide training and capacity-building that includes information, training, technical assistance and technology transfer.

The PTCs offer classroom and experiential training, web-based training, clinical consultation, and capacity building assistance to maintain and enhance the capacity of health care professionals to control and prevent STDs and HIV. The NNPTC Abbreviated HPAT is used to monitor and evaluate performance and reach of grantees that offer STD and HIV prevention training, training assistance, and capacity building assistance to physicians, nurses, disease intervention specialists, health educators, etc.

The 4,500 respondents (who will engage in a total of 11,769 respondent instances) represent an average of the number of health professionals trained by PTC grantees during 2015. The evaluation instruments collect data on the impact of the training by the NNPTC. The revision of this data collection is necessary to assess and evaluate the performance of the grantees in delivering training and to standardize training registration processes across the PTCs. The NNPTC Abbreviated HPAT allows CDC grantees to use a single instrument when collecting demographic data from its training and capacity building participants, regarding their: (1) Occupations, professions, and functional roles; (2) principal employment settings; (3) location of their work settings; and (4) programmatic and population foci of their work. The NNPTC Abbreviated HPAT takes approximately 3 minutes to complete. This data collection provides CDC with information to determine whether the training grantees are reaching their target audiences in terms of provider type, the types of organizations in which participants work, the focus of their work and the population groups and geographic areas served.

The evaluation instruments are used to assess training and capacity-building outcomes (knowledge, confidence, intention to use information, actual changes made as a result of training) immediately after and again 90 days after training events. The evaluation instruments vary based on the type of training offered and take between approximately 16 minutes to complete (for intensive multi-day trainings) to 2 minutes to complete (for short didactic or webinar sessions).

The CDC's Funding Opportunity Announcement PS 14-1407, NNPTC, requires the collection of national demographic information on grantees' trainees and national evaluation outcomes.

There are no costs to respondents other than their time. The estimated annualized burden hours for this data collection are 502 hours.

Estimates of Annualized Burden
Type of respondent | Form name | Number of respondents | Number responses per respondent | Average burden per response (in hours) | Total burden hours
Healthcare Professionals | NNPTC Abbreviated Health Professional Application for Training (HPAT) | 4,500 | 1 | 3/60 | 225
Healthcare Professionals | Intensive Complete Post-Course Evaluation | 116 | 1 | 16/60 | 31
| Intensive Complete Long-Term Evaluation | 36 | 1 | 10/60 | 6
Healthcare Professionals | Intensive-Didactic Post-Course Evaluation | 166 | 1 | 10/60 | 28
| Intensive-Didactic Long-Term Evaluation | 58 | 1 | 7/60 | 7
Healthcare Professionals | Practicum Post-Course Evaluation | 70 | 1 | 4/60 | 5
| Practicum Long-Term Evaluation | 20 | 1 | 3/60 | 1
Healthcare Professionals | Wet Mount Post-Course Evaluation | 40 | 1 | 3/60 | 2
| Wet Mount Long-Term Evaluation | 15 | 1 | 2/60 | 1
Healthcare Professionals | STD Tx Guidelines Complete Post-Course Evaluation | 548 | 1 | 6/60 | 55
| STD Tx Guidelines Complete Long-Term Evaluation | 180 | 1 | 5/60 | 15
Healthcare Professionals | Short Guidelines Post-Course Evaluation | 500 | 1 | 3/60 | 25
| Short Guidelines Long-Term Evaluation | 160 | 1 | 3/60 | 8
Healthcare Professionals | Basic Post-Course Evaluation | 150 | 1 | 2/60 | 5
| Basic Long-Term Evaluation | 50 | 1 | 2/60 | 2
Healthcare Professionals | Immediate Post-Course email invitation | 4,500 | 1 | 1/60 | 75
Healthcare Professionals | 3 Month Long-Term email invitation | 660 | 1 | 1/60 | 11
Total |  |  |  |  | 502

Leroy A. Richardson,
Chief, Information Collection Review Office, Office of Scientific Integrity, Office of the Associate Director for Science, Office of the Director, Centers for Disease Control and Prevention.

[FR Doc. 2016-17603 Filed 7-25-16; 8:45 am]

BILLING CODE 4163-18-P